DEPARTMENT OF THE INTERIOR

Office of the Secretary

[GWCRC Meeting Notice No. 1-04]

Guam War Claims Review Commission

The Guam War Claims Review Commission, pursuant to section 10 of the Federal Advisory Committee Act (5 U.S.C. App. 10), hereby gives notice in regard to the scheduling of meetings for the transaction of Commission business, as follows:

Date and Time: Thursday, February 19, 2004, at 4 p.m., and Friday, February 20, 2004, at 10 a.m.

Place: Thursday, February 19, 2004: 600 E St., NW., Room 6002, Washington, DC; Friday, February 20, 2004: Grand Hyatt Hotel, 1000 H St., NW., Washington, DC.

Subject Matter: Thursday, February 19, 2004: administrative and organizational matters; Friday, February 20, 2004: public meetings at which to elicit and hear advice, opinion, and insights from legal experts concerning the recognition and payment of American nationals' claims for personal injury, death, forced labor, internment, and property loss and damage in areas occupied by Imperial Japanese forces during World War II.

Status: Open.

Requests for information concerning these meetings should be addressed to David Bradley, Executive Director, Guam War Claims Review Commission, c/o Foreign Claims Settlement Commission of the United States, 600 E St., NW., Washington DC 20579, telephone (202)616-6975, FAX (202)616-6993.

Mauricio J. Tamargo,
Chairman.

[FR Doc. 04-2643 Filed 2-6-04; 8:45 am]

BILLING CODE 4310-93-P